POSTAL SERVICE

International Product Change—Global Expedited Package Services—Non-Published Rates

AGENCY: Postal Service™.

ACTION: Notice.

SUMMARY: The Postal Service gives notice of filing a request with the Postal Regulatory Commission to add Global Expedited Package Services—Non-Published Rates 10 (GEPS—NPR 10) to the Competitive Products List.

DATES: Effective date: March 22, 2016.

FOR FURTHER INFORMATION CONTACT: Christopher C. Meyerson, 202-268-7820.

SUPPLEMENTARY INFORMATION: The United States Postal Service® hereby gives notice that, pursuant to 39 U.S.C. 3642, on March 15, 2016, it filed with the Postal Regulatory Commission a Request of the United States Postal Service to add Global Expedited Package Services—Non-Published Rates 10 (GEPS—NPR 10) to the Competitive Products List, and Notice of Filing GEPS—NPR 10 Model Contract and Application for Non-Public Treatment of Materials Filed Under Seal. Documents are available at www.prc.gov, Docket Nos. MC2016-97 and CP2016-122.

Stanley F. Mires,
Attorney, Federal Compliance.

[FR Doc. 2016-06331 Filed 3-21-16; 8:45 am]

BILLING CODE 7710-12-P